DEPARTMENT OF HOMELAND SECURITY

Federal Emergency Management Agency

[Docket ID FEMA-2007-0008]

National Advisory Council; Meeting

AGENCY: Federal Emergency Management Agency, DHS.

ACTION: Committee management; notice of Open Federal Advisory Committee meeting.

SUMMARY: The Federal Emergency Management Agency (FEMA) National Advisory Council (NAC) will meet in person on May 23-25, 2017 in Tampa, FL. The meeting will be open to the public.

DATES: The NAC will meet Tuesday, May 23, 2017 from 8:00 a.m. to 5:00 p.m., Wednesday, May 24, 2017 from 8:30 a.m. to 5:00 p.m., and Thursday, May 25, 2017 from 8:30 a.m. to 1:00 p.m. Eastern Daylight Time (EDT). Please note that the meeting may close early if the NAC has completed its business.

ADDRESSES: The meeting will be held at The Barrymore Hotel Tampa Riverwalk located at 111 W. Fortune St., Tampa, FL 33602. It is recommended that attendees register with FEMA prior to the meeting by providing your name, telephone number, email address, title, and organization to the person listed in FOR FURTHER INFORMATION CONTACT below.

For information on facilities or services for individuals with disabilities or to request special assistance at the meeting, contact the person listed in FOR FURTHER INFORMATION CONTACT below as soon as possible.

To facilitate public participation, members of the public are invited to provide written comments on the issues to be considered by the NAC listed in the agenda. The “Agenda” section below outlines these issues. The full agenda and any related documents for this meeting will be posted by Friday, May 19 on the NAC Web site at http://www.fema.gov/national-advisory-council. Written comments must be submitted and received by 5:00 p.m. EDT on May 12, 2017, identified by Docket ID FEMA-2007-0008, and submitted by one of the following methods:

• Federal eRulemaking Portal: http://www.regulations.gov. Follow the instructions for submitting comments.

• Email: FEMA-RULES@fema.dhs.gov. Include the docket number in the subject line of the message.

• Fax: (540) 504-2331. Please include a cover sheet addressing the fax to ATTN: Deana Platt.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided.

Docket: For access to the docket to read comments received by the NAC, go to http://www.regulations.gov, and search for the Docket ID listed above.

A public comment period will be held on Wednesday, May 24 from 1:30 p.m. to 1:45 p.m. EDT. All speakers must limit their comments to 5 minutes. Comments should be addressed to the NAC. Any comments not related to the agenda topics will not be considered by the NAC. To register to make remarks during the public comment period, contact the individual listed in FOR FURTHER INFORMATION CONTACT by May 12, 2017. Please note that the public comment period may end before the time indicated, following the last call for comments.

FOR FURTHER INFORMATION CONTACT: Deana Platt, Designated Federal Officer, Office of the National Advisory Council, Federal Emergency Management Agency, 500 C Street SW., Washington, DC 20472-3184, telephone (202) 646-2700, fax (540) 504-2331, and email FEMA-NAC@fema.dhs.gov. The NAC Web site is: http://www.fema.gov/national-advisory-council.

SUPPLEMENTARY INFORMATION: Notice of this meeting is given under the Federal Advisory Committee Act, 5 U.S.C. Appendix.

The NAC advises the FEMA Administrator on all aspects of emergency management. The NAC incorporates state, local, and tribal government, and private sector input in the development and revision of FEMA plans and strategies. The NAC includes a cross-section of officials, emergency managers, and emergency response providers from state, local, and tribal governments, the private sector, and nongovernmental organizations.

Agenda: On Tuesday, May 23, the NAC will hear about priorities across FEMA regions from the Region IV team and receive briefings on Federal Insurance and Mitigation as well as Protection and National Preparedness.

On Wednesday, May 24, the NAC will hear from the Office of Response and Recovery, and will engage in an open discussion with the Acting FEMA Administrator. The three NAC subcommittees (Federal Insurance and Mitigation Subcommittee, Preparedness and Protection Subcommittee, and Response and Recovery Subcommittee) and the GIS Ad Hoc Subcommittee will provide reports to the NAC about their work, whereupon the NAC will deliberate on any recommendations presented in the subcommittees' reports, and, if appropriate, vote on recommendations for the FEMA Administrator. Potential recommendation topics include (1) more effective use of technology in emergency management, (2) better incorporating access and functional needs and others with disabilities into emergency management training, (3) incorporating local mitigation investments into the state credit under the disaster deductible concept, and (4) better data standards, especially for geospatial data.

On Thursday, May 25, the NAC will review potential topics for research before the next in-person meeting, review agreed upon recommendations and confirm charges for the subcommittees, and receive a briefing on the National Incident Management System.

The full agenda and any related documents for this meeting will be posted by Friday, May 19 on the NAC Web site at http://www.fema.gov/national-advisory-council.

Robert J. Fenton,
Acting Administrator, Federal Emergency Management Agency.

[FR Doc. 2017-08917 Filed 5-2-17; 8:45 am]

BILLING CODE 9111-48-P